SMALL BUSINESS ADMINISTRATION

Advisory Committee on Veterans Business Affairs; Committee Member Nominations Sought Notice

AGENCY: U.S. Small Business Administration.

ACTION: Notice of open nominations for veteran small business owners and veteran service organization representatives for the Advisory Committee on Veterans Business Affairs.

SUMMARY: The U.S. Small Business Administration seeks member nominations from veteran owned small businesses and veteran service organizations to serve on the Advisory Committee on Veterans Business Affairs.

DATES: Nomination applications due by 11:59 p.m. (EST), November 16, 2020.

ADDRESSES: Send nominations to veteransbusiness@sba.gov.

SUPPLEMENTARY INFORMATION: The U.S. Small Business Administration (SBA) seeks member nominations from veteran owned small businesses and veteran service organizations (VSO) to serve on the Advisory Committee on Veterans Business Affairs (ACVBA).

Additional Information: Nominations of eligible applicants must complete the following documents:

1. SBA Form 898 (08-08) https://www.sba.gov/document/sba-form-898-advisory-committee-membership-nominee-information-form.

2. Current biography with political affiliation stated.

The completed documents will need to scanned and emailed to veteransbusiness@sba.gov. The submission deadline for nominations is November 16, 2020. The SBA Administrator will appoint individuals who will serve on the ACVBA for a period of three years.

The Veterans Entrepreneurship and Small Business Development Act of 1999—Public Law 106-50—established the ACVBA to serve as an independent source of advice and policy recommendations on veteran owned small business opportunities. Through an annual report, the ACVBA reports to the SBA Administrator, SBA's Associate Administrator for Veterans Business Development, the Congress, the President, and other U.S. policy makers. The ACVBA is comprised of 15 members—eight members represent veteran owned small business and seven members represent veteran service or military organizations. Learn more about the ACVBA by reviewing the ACVBA charter at Advisory Committee on Veterans Business Affairs.

On Aug. 13, 2014, the Office of Management and Budget (OMB) published in the Federal Register revised guidance on individuals who are not eligible to serve on federal advisory committees. In accordance with OMB guidance, the President directed agencies and departments in the Executive Branch not to appoint or re-appoint federally registered lobbyists to advisory committees and other boards and commissions.

Nicole Nelson,
SBA Committee Management Officer.

[FR Doc. 2020-23536 Filed 10-22-20; 8:45 am]

BILLING CODE 8026-03-P